DEPARTMENT OF COMMERCE

National Oceanic and Atmospheric Administration

RIN 0648-XG252

Western Pacific Fishery Management Council; Public Meetings

AGENCY: National Marine Fisheries Service (NMFS), National Oceanic and Atmospheric Administration (NOAA), Commerce.

ACTION: Notice of public meetings.

SUMMARY: The Western Pacific Fishery Management Council (Council) will hold its 129th Scientific and Statistical Committee (SSC) meeting and, 173rd Council and associated meetings to take actions on fishery management issues in the Western Pacific Region.

DATES: The meetings will be held between June 6 and June 13, 2018. For specific times and agendas, see SUPPLEMENTARY INFORMATION.

ADDRESSES: The 129th SSC, the Council's Executive & Budget and Legislative Standing Committees, and the 173rd Council meetings will be held at the Marriott Wailea Beach Resort, 3700 Wailea Alanui Drive, Wailea, Maui, HI 96753. The Fishers Forum will be held at the Maui Beach Hotel Ballroom, 170 W. Kaahumanu Ave, Kahului, Maui, HI 96732, phone: (808) 877-0051.

FOR FURTHER INFORMATION CONTACT: Kitty M. Simonds, Executive Director, Western Pacific Fishery Management Council; phone: (808) 522-8220.

SUPPLEMENTARY INFORMATION: The 129th SSC meeting will be held between 8:30 a.m. and 5 p.m. on June 6-8, 2018. The joint Executive & Budget and Legislative Standing Committees will meet on June 10, 2018, from 2 p.m. to 4 p.m. The 173rd Council meeting will be held between 8 a.m. and 4:30 p.m. on June 11, between 9 a.m. and 5 p.m. on June 12 and between 8:30 a.m. and 5 p.m. on June 13, 2018. On June 11, 2018, the Council will host a Fishers Forum between 6 p.m. and 9 p.m. All times listed are local island times.

Agenda items noted as “Final Action Items” refer to actions that result in Council transmittal of a proposed fishery management plan, proposed plan amendment, or proposed regulations to the U.S. Secretary of Commerce, under Sections 304 or 305 of the Magnuson-Stevens Fishery Conservation and Management Act (MSA). In addition to the agenda items listed here, the Council will hear recommendations from Council advisors. Opportunities to submit public comment will be provided throughout the agendas. The order in which agenda items are addressed may change and will be announced in advance at the Council meeting. The meetings will run as late as necessary to complete scheduled business. Background documents will be available from and written comments should be sent to Kitty M. Simonds, Executive Director; Western Pacific Fishery Management Council, 1164 Bishop Street, Suite 1400, Honolulu, HI 96813, phone: (808) 522-8220 or fax: (808) 522-8226.

Agenda for 129th SSC Meeting

Wednesday, June 6, 2018, 8:30 a.m. to 5 p.m.

1. Introductions

2. Approval of Draft Agenda and Assignment of Rapporteurs

3. Status of the 128th SSC Meeting Recommendations

4. Report from the Pacific Islands Fisheries Science Center

5. Insular Fisheries

A. Main Hawaiian Islands (MHI) Deep 7 Bottomfish Fishery

1. P* Working Group Report

2. Specification of Acceptable Biological Catch for the MHI Deep 7 Bottomfish (Action Item)

3. Social, Economic, Ecological, and Management (SEEM) Working Group Report

B. Report on State of Hawaii Kahekili Herbivore Fisheries Management Area

C. Public Comment

D. SSC Discussion and Recommendations

6. Program Planning and Research

A. 2017 Annual Stock Assessment and Fishery Evaluation (SAFE) Report and Recommendations

1. Archipelagic SAFE Report Overview and Highlights

2. Pelagic SAFE Report Overview and Highlights

B. Evaluation of 2017 Catch to the 2017 Annual Catch Limits (ACL) (Action Item)

C. Updates to the Council's Research Priorities

1. Five-year Research Priorities

2. Cooperative Research Priorities

3. Management Strategy Evaluation Priorities

D. Report on the Best Scientific Information Available Framework

E. Public Comment

F. SSC Discussion and Recommendations

Thursday, June 7, 2018, 8:30 a.m. to 5 p.m.

7. Pelagic Fisheries

A. Hawaii Shallow-Set Longline Fisheries

1. Status of the Hawaii Shallow-set Longline ESA Consultation

2. Loggerhead and Leatherback Turtle Population Vulnerability Assessments

3. Framework for Managing Sea Turtle Interactions in the Hawaii Shallow-set Longline Fishery (Action Item)

B. Pelagic Fisheries Research Plan

C. Western and Central Pacific Fisheries Commission Pre-Assessment Workshop

D. Report on Inter-American Tropical Tuna Commission 2017 Stock Assessments

E. Public Comment

F. SSC Discussion and Recommendations

8. Protected Species

A. Report of the False Killer Whale Take Reduction Team Meeting

B. Updates on Endangered Species Act and Marine Mammal Protection Act Actions

C. Public Comment

D. SSC Discussion and Recommendations

Friday, June 8, 2018, 8:30 a.m. to 5 p.m.

9. Other Business

A. 130th SSC Meeting

10. Summary of SSC Recommendations to the Council

Agenda for the Executive and Budget and Legislative Standing Committees

Sunday, June 10, 2018, 2 p.m. to 4 p.m.

1. Administrative Report

2. Financial Report

3. Sustainable Fisheries Fund 10 Scope of Projects

4. Report on Legislation

5. Meetings and Workshops

6. Council Family Changes

7. Pacific Island Regional Planning Body Representative

8. Commission Appointments to the North Pacific Fisheries Commission and South Pacific Regional Fisheries Management Organization

9. Standard Operating Policies and Procedure Changes

10. Other Issues

11. Public Comment

12. Discussion and Recommendations

Agenda for 173rd Council Meeting

Monday, June 11, 2018, 8 a.m. to 4:30 p.m.

1. Welcome and Introductions

2. Approval of the 173rd Agenda

3. Approval of the 172nd Meeting Minutes

4. Executive Director's Report

5. Agency Reports

A. National Marine Fisheries Service

1. Pacific Islands Regional Office

2. Pacific Islands Fisheries Science Center

3. Pacific Islands Ecosystem Based Regional Implementation Plan

B. NOAA Office of General Counsel, Pacific Islands Section

C. U.S. State Department

D. U.S. Fish and Wildlife Service

1. Pacific Marine Monument Management Plan

E. Enforcement

1. U.S. Coast Guard

2. NOAA Office of Law Enforcement

3. NOAA Office of General Counsel, Enforcement Section

F. Public Comment

G. Council Discussion and Action

6. Hawaii Archipelago & Pacific Remote Island Areas

A. Moku Pepa

B. Legislative Report

C. Enforcement Issues

D. Community Issues

E. Main Hawaiian Islands (MHI) Deep 7 Bottomfish Fishery

1. Report on the P* Working Group

2. Report of the SEEM Working Group

3. Specification of the ACLs for the MHI Deep 7 Bottomfish Fishery in Fishing Year 2018-19 to 2020-21 (Final Action Item)

F. Education and Outreach Initiatives

G. Advisory Group Report and Recommendations

1. Hawaii Archipelago Fishery Ecosystem Plan (FEP) Advisory Panel (AP)

2. Archipelagic Plan Team

3. Scientific & Statistical Committee (SSC)

H. Public Comment

I. Council Discussion and Action

7. Program Planning and Research

A. Overview of the Western Pacific Council Programs and Research

B. Ecosystem Component Species Classification (Final Action Item)

C. Evaluation of 2017 Catch to the 2017 ACLs (Final Action Item)

D. Omnibus Amendment to Establish an Aquaculture Management Program (Final Action Item)

E. 2017 Annual Stock Assessment and Fishery Evaluation Reports

F. Updates to the Council's Research Priorities

1. Magnuson-Stevens Reauthorization Act Five-year Research Priorities

2. Cooperative Research Priorities

3. Pelagic Fisheries Research Plan

4. Management Strategy Evaluation Priorities

G. Regional, National and International Outreach and Education

H. Advisory Group Report and Recommendations

1. Advisory Panels

2. Archipelagic Plan Team

3. Pelagic Plan Team

4. Protected Species Advisory Committee

5. Marine Planning and Climate Change Committee

6. Fishery Data Collection and Research Committee (FDCRC)—Technical Committee

7. SSC

I. Public Comment

J. Council Discussion and Action

Monday, June 11, 2018, 6 p.m. to 9 p.m.

Fishers Forum—Going Deep: Hawaii's Bottomfish Story

Tuesday, June 12, 2018, 9 a.m. to 5 p.m.

8. Pelagic & International Fisheries

A. Overview of the Western Pacific Pelagic Fisheries

B. Hawaii Shallow-Set Longline Fisheries Management

1. Status of the Hawaii Shallow-set Longline Endangered Species Act (ESA) Consultation

2. Loggerhead and Leatherback Turtle Population Vulnerability Assessments

3. Industry Initiatives for Managing Sea Turtle Interactions in the Hawaii Shallow-set Longline Fishery

4. Framework for Managing Sea Turtle Interactions in the Hawaii Shallow-set Longline Fishery (Final Action Item)

C. American Samoa Large Vessel Prohibited Area (Final Action Item)

D. Modification to US Participating Territory Catch and Effort Limit Amendment 7 Framework (Final Action Item)

E. International Fisheries Meetings

1. Western and Central Pacific Fisheries Commission Stock Pre-assessment Workshop

2. Status of the Eastern Pacific Ocean Tuna Stocks

F. Advisory Group Report and Recommendations

1. Advisory Panels

2. Pelagic Plan Team

3. Protected Species Advisory Committee

4. SSC

F. Public Comment

G. Council Discussion and Action

9. American Samoa Archipelago

A. Motu Lipoti

B. Fono Report

C. Enforcement Issues

D. Report on Benefits of National marine Sanctuary of American Samoa

E. Report on the Benefits of the Rose Atoll Marine National Monument

F. Community Activities and Issues

G. American Samoa Marine Conservation Plan (Final Action Item)

H. Education and Outreach Initiatives

I. Advisory Group Report and Recommendations

1. American Samoa FEP AP

2. SSC

J. Public Comment

K. Council Discussion and Action

Tuesday, June 12, 2018, 4 p.m.

Public Comment on Non-Agenda Items

Wednesday, June 13, 2018, 8:30 a.m. to 5 p.m.

10. Protected Species

A. Report of the False Killer Whale Take Reduction Team Meeting

B. Updates on ESA and Marine Mammal Protection Act Actions

C. Advisory Group Report and Recommendations

1. Advisory Panels

2. Pelagic Plan Team

4. Protected Species Advisory Committee

5. SSC

D. Public Comment

E. Council Discussion and Action

11. Mariana Archipelago

A. Guam

1. Isla Informe

2. Legislative Report

3. Enforcement Issues

4. Community Activities and Issues

5. Education and Outreach Initiatives

B. Commonwealth of Northern Mariana Islands

1. Arongol Falú/Asunton i Tano

2. Legislative Report

3. Enforcement Issues

4. Community Activities and Issues

5. Education and Outreach Initiatives

C. Advisory Group Reports and Recommendations

1. FEP AP

2. SSC

D. Public Comment

E. Council Discussion and Action

13. Administrative Matters

A. Financial Reports

B. Administrative Reports

C. Council Family Changes

D. Report on the May CCC Meeting

E. Report on the Recreational Fisheries Summit

F. Legislative Standing Committee Recommendations

G. Meetings and Workshops

H. 2018 Council Member Appointments

I. Other Business

J. Executive and Budget Standing Committee Recommendations

K. Public Comment

L. Council Discussion and Action

13. Other Business

Non-emergency issues not contained in this agenda may come before the Council for discussion and formal Council action during the 173rd meeting. However, Council action on regulatory issues will be restricted to those issues specifically listed in this document and any regulatory issue arising after publication of this document that requires emergency action under section 305(c) of the Magnuson-Stevens Act, provided the public has been notified of the Council's intent to take action to address the emergency.

Special Accommodations

These meetings are accessible to people with disabilities. Requests for sign language interpretation or other auxiliary aids should be directed to Kitty M. Simonds, (808) 522-8220 (voice) or (808) 522-8226 (fax), at least 5 days prior to the meeting date.

Authority: 16 U.S.C. 1801 et seq.

Dated: May 17, 2018.
Rey Israel Marquez,
Acting Deputy Director, Office of Sustainable Fisheries, National Marine Fisheries Service.

[FR Doc. 2018-10895 Filed 5-21-18; 8:45 am]

BILLING CODE 3510-22-P